DEPARTMENT OF HOMELAND SECURITY

U.S. Customs and Border Protection

Accreditation and Approval of Chem Coast, Inc., as a Commercial Gauger and Laboratory

AGENCY: U.S. Customs and Border Protection, Department of Homeland Security.

ACTION: Notice of accreditation and approval of Chem Coast, Inc., as a commercial gauger and laboratory.

SUMMARY: Notice is hereby given, pursuant to CBP regulations, that Chem Coast, Inc., has been approved to gauge and accredited to test petroleum and petroleum products, organic chemicals and vegetable oils for customs purposes for the next three years as of August 22, 2013.

DATES: Effective Dates: The accreditation and approval of Chem Coast, Inc., as commercial gauger and laboratory became effective on August 22, 2013. The next triennial inspection date will be scheduled for August 2016.

FOR FURTHER INFORMATION CONTACT: Approved Gauger and Accredited Laboratories Manager, Laboratories and Scientific Services, U.S. Customs and Border Protection, 1300 Pennsylvania Avenue NW., Suite 1500N, Washington, DC 20229, tel. 202-344-1060.

SUPPLEMENTARY INFORMATION: Notice is hereby given pursuant to 19 CFR 151.12 and 19 CFR 151.13, that Chem Coast, Inc., 11820 North H Street, Laporte, TX 77571, has been approved to gauge petroleum and certain petroleum products and accredited to test petroleum and certain petroleum products for customs purposes, in accordance with the provisions of 19 CFR 151.12 and 19 CFR 151.13. Chem Coast, Inc., is approved for the following gauging procedures for petroleum and certain petroleum products from the American Petroleum Institute (API):

Chapters | Title
3 | Tank Gauging.
5 | Metering.
7 | Temperature Determination.
8 | Sampling.
12 | Calculations of Petroleum Quantities.
17 | Marine Measurements.

Chem Coast, Inc., is accredited for the following laboratory analysis procedures and methods for petroleum and certain petroleum products set forth by the U.S. Customs and Border Protection Laboratory Methods (CBPL) and American Society for Testing and Materials (ASTM):

CBPL No. | ASTM | Title
27-48 | ASTM D-4052 | Standard test method for density and relative density of liquids by digital density meter.
27-01 | ASTM D-287 | Standard test method for API Gravity of crude petroleum products and petroleum products (Hydrometer method).
27-08 | ASTM D-86 | Standard test method for distillation of petroleum products at atmospheric pressure.
27-11 | ASTM D-445 | Standard test method for kinematic viscosity of transparent and opaque liquids (and calculations for dynamic viscosity).
27-05 | ASTM D-4928 | Standard test method of water in crude oils by Karl Fisher Titration.
27-50 | ASTM D-93 | Standard test method for flash point by Penske-Martens Closed Cup Tester.

Anyone wishing to employ this entity to conduct laboratory analyses and gauger services should request and receive written assurances from the entity that it is accredited or approved by the U.S. Customs and Border Protection to conduct the specific test or gauger service requested. Alternatively, inquiries regarding the specific test or gauger service this entity is accredited or approved to perform may be directed to the U.S. Customs and Border Protection by calling (202) 344-1060. The inquiry may also be sent to cbp.labhq@dhs.gov. Please reference the Web site listed below for a complete listing of CBP approved gaugers and accredited laboratories. http://cbp.gov/linkhandler/cgov/trade/basic_trade/labs_scientific_svcs/commercial_gaugers/gaulist.ctt/gaulist.pdf

Dated: January 27, 2014.
Ira S. Reese,
Executive Director, Laboratories and Scientific Services.

[FR Doc. 2014-02802 Filed 2-7-14; 8:45 am]

BILLING CODE 9111-14-P